DEPARTMENT OF THE INTERIOR

Bureau of Land Management

[ID-300-1110-PI]

Notice of Public Meeting, Idaho Falls District Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Clyde, Idaho on June 7, 2007, and in Challis, Idaho on June 8, 2007. Day 1 of this meeting will be a driving tour of the Little Lost and Pahsimeroi Valleys of East-Central Idaho. The meeting will begin at the BLM Clyde Administrative Site, located about 20 miles northwest of Howe, Idaho, then proceed to several sites in the Pahsimeroi Valley. The public is responsible for their own four-wheel drive transportation and food if they desire to join the RAC on the driving tour. The subjects will include bull trout stream studies (Sawmill Creek), travel management, and noxious weed control using biological treatments.

The second day will be at Challis Field Office, 801 Blue Mountain Road, in Challis. The Salmon-Challis National Forest will present proposed changes to their fee structures for upland campsites. There will also be a discussion on the use of new technology to monitor vegetation trends, and a preview of the upcoming Wild Horse gather near Challis. Other topics will be scheduled as appropriate.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: David Howell, RAC Coordinator, Idaho Falls District, 1405 Hollipark Dr., Idaho Falls, ID 83401. Telephone (208) 524-7559. E-mail: David_Howell@blm.gov.

Dated: April 18, 2007.
David Howell,
RAC Coordinator.

[FR Doc. E7-7751 Filed 4-23-07; 8:45 am]

BILLING CODE 4310-GG-P